DEPARTMENT OF DEFENSE

Defense Acquisition Regulations System

48 CFR Parts 243 and 252

[Docket DARS-2023-0001]

Defense Federal Acquisition Regulation Supplement: Technical Amendments

AGENCY: Defense Acquisition Regulations System, Department of Defense (DoD).

ACTION: Final rule.

SUMMARY: DoD is making technical amendments to the Defense Federal Acquisition Regulation Supplement (DFARS) to provide needed editorial changes.

DATES: Effective March 22, 2023.

FOR FURTHER INFORMATION CONTACT: Jennifer D. Johnson, telephone 703-717-8226.

SUPPLEMENTARY INFORMATION: This final rule makes the following changes:

1. A final rule published at 88 FR 6578 on January 31, 2023, provided an incorrect reference at amendatory instruction 149 by citing “242.205-71” in lieu of “243.205-71”. This rule provides the correct amendatory instruction.

2. This rule amends section 252.215-7009, Proposal Adequacy Checklist, at item 18 in the column entitled “Submission item” in the introductory text and paragraph a by updating terminology referencing commercial products.

List of Subjects in 48 CFR Parts 243 and 252

Government procurement.

Jennifer D. Johnson,
Editor/Publisher, Defense Acquisition Regulations System.

Therefore, 48 CFR parts 243 and 252 are amended as follows:

1. The authority citation for 48 CFR parts 243 and 252 continues to read as follows:

Authority: 41 U.S.C. 1303 and 48 CFR chapter 1.

PART 243—CONTRACT MODIFICATIONS

243.205-71 [Amended]

2. Amend section 243.205-71 by removing “commercial items” and adding “commercial products and commercial services” in its place.

PART 252—SOLICITATION PROVISIONS AND CONTRACT CLAUSES

3. Amend section 252.215-7009—

a. By revising the provision date; and

b. In the provision checklist table by revising reference number 18.

The revisions read as follows:

252.215-7009 Proposal Adequacy Checklist.

* * * * *

Proposal Adequacy Checklist (Mar 2023)

* * * * *

Proposal Adequacy Checklist
References | Submission item | Proposal page no. | If not provided EXPLAIN (may use continuation pages)
* * * * * * *
18. FAR 52.215-20, FAR 2.101, “commercial product” or “commercial service” | Has the offeror submitted an exception to the submission of certified cost or pricing data for commercial products or commercial services proposed either at the prime or subcontractor level, in accordance with provision 52.215-20?
| a. Has the offeror specifically identified the type of commercial product or commercial service claim (FAR 2.101 “commercial product” or “commercial service” definition), and the basis on which the commercial product or commercial service meets the definition?
| b. For modified commercial products (FAR 2.101 “commercial product” definition); did the offeror classify the modification(s) as either—
| i. A modification of a type customarily available in the commercial marketplace (paragraph (3)(i)); or
| ii. A minor modification (paragraph (3)(ii)) of a type not customarily available in the commercial marketplace made to meet Federal Government requirements not exceeding the thresholds in FAR 15.403-1(c)(3)(iii)(B)?
| c. For proposed commercial products “of a type”, or “evolved” or modified (FAR 2.101 “commercial product” definition), did the contractor provide a technical description of the differences between the proposed item and the comparison item(s)?
* * * * * * *

* * * * *

[FR Doc. 2023-05675 Filed 3-21-23; 8:45 am]

BILLING CODE 6820-ep-P